DEPARTMENT OF HEALTH AND HUMAN SERVICES

National Institutes of Health

Proposed Collection; Comment Request: Effectiveness of the NIH Curriculum Supplements Programs

SUMMARY: In compliance with the requirements of section 3506(c)(2)(A) of the Paperwork Reduction Act of 1995, for opportunity for public comment on proposed data collection projects, the Office of Science Education, the National Institutes of Health (NIH), will publish periodic summaries of proposed projects to be submitted to the Office of Management and Budget (OMB) for review and approval.

Proposed Collection: Title: The Effectiveness of the NIH Curriculum Supplements Programs Survey. Type of Information Collection Request: Extension of the previously approved collection (OMB No. 0925-0551, expiration date 06/30/2012). Need and Use of Information Collection: The survey will attempt to assess customer demographics and their satisfaction with the NIH curriculum supplements in presenting science in a more engaging and interactive way. The supplements help K-12 educators teach science by featuring the latest NIH research and utilized research-based instructional methods. A typical supplement contains two weeks of student activities on the science behind a health topic, such as cancer, sleep or obesity. Web-based simulations, animations and experiments enhance the “pencil and paper” activities. In addition to developing and distributing the supplements, OSE conducts professional workshops to help teachers successfully implement these lessons with their students. Since January 2000, over 6,000 teachers have attended an OSE workshop. Assessing the effectiveness of the NIH curriculum supplements and teacher workshops is critical to determining if OSE is successfully fulfilling its mission. OSE has the database infrastructure in place to easily collect data from supplement requesters and workshop attendees. At present, we do not have clearance to contact our customers to determine how NIH resources are meeting their educational needs.

Burden Table
Type of respondent: survey title | Number of respondents | Frequency of response | Average time per response (in hours) | Hour burden per year (in hours)
Supplement requestor | 17,500 | 1 | 0.17 | 995
Workshop Teacher: initial survey | 2,000 | 1 | 0.17 | 117
Workshop Teacher: in-depth survey | 200 | 1 | 0.5 | 34
Totals | 19,700 | n/a | n/a | 1,146

Request for Comments: Written comments and/or suggestions from the public and affected agencies are invited on one or more of the following points: (1) Whether the proposed collection of information is necessary for the proper performance of the function of the agency, including whether the information will have practical utility; (2) ways to enhance the quality, utility, and clarity of the information to be collected; and (3) ways to minimize the burden of the collection of information on those who are to respond, including the use of appropriate automated, electronic, mechanical, or other technological collection techniques or other forms of information technology.

FOR FURTHER INFORMATION CONTACT: To request additional information on the proposed collection of information, contact Lisa Strauss, Office of Science Education, National Institutes of Health, 6100 Executive Boulevard, Suite 3E01, Bethesda, MD 20892-7520, or call non-toll-free at 301-496-8547. You may also email your request to lisa.strauss@nih.gov.

Comments Due Date: Comments regarding this information collection are best assured of having their full effect if received within 60 days of the date of this publication.

Dated: July 3, 2012.
Lawrence A. Tabak,
Deputy Director, National Institutes of Health.

[FR Doc. 2012-17032 Filed 7-11-12; 8:45 am]

BILLING CODE 4140-01-P